LEGAL SERVICES CORPORATION

Sunshine Act Meeting of the Board of Directors Search Committee for Interim LSC President—Telephonic

Time and Date: The Search Committee for Interim LSC President of the Legal Services Corporation's Board of Directors will meet on December 9, 2009 via conference call. The meeting will begin at 2:30 p.m. Eastern Time, and continue until conclusion of the committee's agenda.

Location: Legal Services Corporation, 3333 K Street, NW.—3rd Flr Conference Center, Washington, DC.

Public Observation: For those portions of the meeting open to public observation, members of the public who are unable to attend but wish to listen to the meeting may do so by following the telephone call-in directions provided below. Please keep your telephone muted while listening in order to eliminate background noises. Comments from the public may be solicited from time-to-time by the Committee's Chairperson.

Call-In Directions:

• Call toll-free number 1-866-451-4981.

• When prompted, enter the following numeric code number: 3899506694, followed by # sign.

• When connected to the call, please “mute” your telephone immediately.

Status of Meeting: Open. Directors will participate by telephone conference in such a manner as to enable interested members of the public to hear and identify all persons participating in the meeting. Members of the public may observe the meeting by joining participating staff at the location indicated above. A portion of the meeting may be closed to the public pursuant to a vote of the Board of Directors authorizing the Committee to consider and act on a recommendation to make to the board as to an Interim President for LSC. During the executive session, the Committee will consider candidates for the position of interim LSC President and may take action to fill the position on a temporary basis.

A verbatim written transcript will be made of the closed session of the Committee meeting. However, the transcript of any portions of the closed session falling within the relevant provisions of the Government in the Sunshine Act, 5 U.S.C. 552b(c)(6), and the corresponding provisions of the Legal Services Corporation's implementing regulation, 45 CFR 1622.5(e), will not be available for public inspection. A copy of the General Counsel's Certification that in his opinion the closing is authorized by law will be available upon request.

Matters to be Considered:

Agenda

Open Session

1. Approval of agenda

Closed Session

2. Consider and act on a recommendation to make to Board as to an Interim President for LSC

Open Session

3. Consider and act on other business

4. Public Comment

5. Consider and act on motion to adjourn meeting

Contact Person for Information: Katherine Ward, Executive Assistant to the Vice President & General Counsel, at (202) 295-1500. Questions may be sent by electronic mail to FR_NOTICE_QUESTIONS@lsc.gov.

Special Needs: Upon request, meeting notices will be made available in alternate formats to accommodate visual and hearing impairments. Individuals who have a disability and need an accommodation to attend the meeting may notify Katherine Ward, at (202) 295-1500 or FR_NOTICE_QUESTIONS@lsc.gov.

Dated: December 2, 2009.
Mattie Cohen,
Senior Assistant General Counsel.

[FR Doc. E9-29117 Filed 12-3-09; 11:15 am]

BILLING CODE 7050-01-P